NATIONAL CAPITAL PLANNING COMMISSION

1 CFR Part 602

Freedom of Information Act Regulations; Correction

AGENCY: National Capital Planning Commission.

ACTION: Final rule; correction.

SUMMARY: The National Capital Planning Commission (NCPC or Commission) is correcting a final rule that appeared in the Federal Register on September 20, 2017. The document issued FOIA regulations with changes necessitated by the FOIA Improvement Act of 2016 (Pub. L. 114-185).

DATES: Effective October 20, 2017.

FOR FURTHER INFORMATION CONTACT: Anne R. Schuyler, General Counsel and Chief FOIA Officer, 202-482-7223, anne.schuyler@ncpc.gov.

SUPPLEMENTARY INFORMATION: In FR Doc. 2017-19997 appearing on page 44036 in the Federal Register on Wednesday, September 20, 2017, the following corrections are made:

§ 602.14 [Corrected]

1. On page 44043, in the second column, the section heading, “§ 602.15—Fee waiver requirements.” is corrected to read “§ 602.14—Fee waiver requirements.”

2. On page 44043, in the second column, the first sentence of 602.14(a) which reads “Records responsive to a Request shall be furnished without charge or at a reduced charge below that established under § 602.14” is corrected to read as follows: “Records responsive to a Request shall be furnished without charge or at a reduced charge below that established under § 602.13.”

Dated September 21, 2017.
Anne R. Schuyler,
General Counsel.

[FR Doc. 2017-20611 Filed 9-26-17; 8:45 am]

BILLING CODE 7502-01-P